Proclamation 8811 of May 1, 2012

Loyalty Day, 2012

By the President of the United States of America

A Proclamation

More than two centuries ago, our Founders laid out a charter that assured the rule of law and the rights of man. Through times of tranquility and the throes of change, the Constitution has always guided our course toward fulfilling that most noble promise that all are equal, all are free, and all deserve the chance to pursue their full measure of happiness. America has carried on not only for the skill or vision of history’s celebrated figures, but also for the generations who have remained faithful to the ideals of our forebears and true to our founding documents. On Loyalty Day, we reflect on that proud heritage and press on in the long journey toward prosperity for all.

In the years since our Constitution was penned and ratified, Americans have moved our Nation forward by embracing a commitment to each other, to the fundamental principles that unite us, and to the future we share. We weathered the storms of civil war and segregation, of conflicts that spanned continents. We overcame threats from within and without—from the specter of fascism abroad to the bitter injustice of disenfranchisement at home. We upheld the spirit of service at the core of our democracy, and we widened the circle of opportunity not just for a privileged few, but for the ambitious many. Time and again, men and women achieved what seemed impossible by joining imagination to common purpose and necessity to courage. That legacy still burns brightly, and the ideals it embodies remain a light to all the world.

Countless Americans demonstrate that same dedication to country today. It endures in the hearts of all who put their lives on the line to defend the land they love, just as it moves millions to improve their communities through volunteerism and civic participation. Their actions help ensure prosperity for this generation and those yet to come, and they honor the immutable truths enshrined in our Nation’s founding texts. On Loyalty Day, we rededicate ourselves to the common good, to the cornerstones of liberty, equality, and justice, and to the unending pursuit of a more perfect Union.

In order to recognize the American spirit of loyalty and the sacrifices that so many have made for our Nation, the Congress, by Public Law 85-529 as amended, has designated May 1 of each year as “Loyalty Day.” On this day, let us reaffirm our allegiance to the United States of America, our Constitution, and our founding values.

NOW, THEREFORE, I, BARACK OBAMA, President of the United States of America, do hereby proclaim May 1, 2012, as Loyalty Day. This Loyalty Day, I call upon all the people of the United States to join in support of this national observance, whether by displaying the flag of the United States or pledging allegiance to the Republic for which it stands.

IN WITNESS WHEREOF, I have hereunto set my hand this first day of May, in the year of our Lord two thousand twelve, and of the Independence of the United States of America the two hundred and thirty-sixth.

[FR Doc. 2012-11026

Filed 5-3-12; 2:00 pm]

Billing code 3295-F2-P